RECOVERY ACCOUNTABILITY AND TRANSPARENCY BOARD

Proposed Information Collection Activities

ACTION: Notice and request for comments.

SUMMARY: The Recovery Accountability and Transparency Board (Board) invites comments on the proposed information collection request as required by the Paperwork Reduction Act of 1995.

DATES: Interested persons are invited to submit comments on or before October 6, 2009.

ADDRESSES: Send all comments to Jennifer Dure, Office of General Counsel, Recovery Accountability and Transparency Board, 1717 Pennsylvania Avenue, NW., Suite 700, Washington, DC 20006.

SUPPLEMENTARY INFORMATION: The Paperwork Reduction Act of 1995 (PRA), Public Law 104-13, section 2, 109 Stat. 163 (1995) (codified as revised at 44 U.S.C. 3501-3520), and its implementing regulations, 5 CFR Part 1320, require Federal agencies to provide 60 days' notice to the public for comment on information collection activities before seeking approval of such activities by the Office of Management and Budget (OMB). Specifically, the Board invites interested respondents to comment on the following summary of proposed information collection activities regarding (i) Whether the information collection activities are necessary for the Board to properly execute its functions; (ii) the accuracy of the Board's estimates of the burden of the information collection activities; (iii) ways for the Board to enhance the quality, utility, and clarity of the information being collected; and (iv) ways for the Board to minimize the burden of information collection activities on the public.

Below is a brief summary of the proposed information collection:

Title of Collection: Section 1512 Data Standards.

OMB Control No.: 0430-0001.

Description: The American Recovery and Reinvestment Act of 2009 (Pub. L. 111-5, 123 Stat. 115 (2009)) (the Recovery Act) established the Board and required that the Board establish and maintain a public-facing website to track covered funds. Section 1512 of the Recovery Act requires recipients of Federal financial assistance—namely, grants, cooperative agreements, contracts and loans—to report on the use of funds. These reports are to be submitted to FederalReporting.gov, and certain information from these reports will later be posted on the public-facing Web site Recovery.gov. More specifically, as set forth in OMB's June 22, 2009, Implementing Guidance for the Reports on Use of Funds Pursuant to the American Recovery and Reinvestment Act of 2009 (OMB Guidance):

Prime Recipients: The prime recipient is ultimately responsible for the reporting of all data required by section 1512 of the Recovery Act and the OMB Guidance, including the Federal Funding Accountability and Transparency Act (FFATA) data elements for the sub-recipients of the prime recipient required under section 1512(c)(4). In addition, the prime recipient must report three additional data elements associated with any vendors receiving funds from the prime recipient for any payments greater than $25,000. Specifically, the prime recipient must report the identity of the vendor by reporting the DUNS number, the amount of the payment, and a description of what was obtained in exchange for the payment. If the vendor does not have a DUNS number, then the name and zip code of the vendor's headquarters will be used for identification.

Sub-Recipients of the Prime Recipient: The sub-recipients of the prime recipient may be required by the prime recipient to report the FFATA data elements required under section 1512(c)(4) for payments from the prime recipient to the sub-recipient. The reporting sub-recipients must also report one data element associated with any vendors receiving funds from that sub-recipient. Specifically, the sub-recipient must report, for any payments greater than $25,000, the identity of the vendor by reporting the DUNS number, if available, or otherwise the name and zip code of the vendor's headquarters.

Required Data: Below are the basic reporting requirements to be reported on prime recipients, recipient vendors, sub-recipients, and sub-recipient vendors.

Prime Recipient

1. Federal Funding Agency Name

2. Award identification

3. Recipient DUNS

4. Parent DUNS

5. Recipient CCR information

6. CFDA number, if applicable

7. Recipient account number

8. Project/grant period

9. Award type, date, description, and amount

10. Amount of Federal Recovery Act funds expended to projects/activities

11. Activity code and description

12. Project description and status

13. Job creation narrative and number

14. Infrastructure expenditures and rationale, if applicable

15. Recipient primary place of performance

16. Recipient area of benefit

17. Recipient officer names and compensation (Top 5)

18. Total number and amount of small sub-awards; less than $25,000

Recipient Vendor

1. DUNS or Name and zip code of Headquarters (HQ)

2. Expenditure amount

3. Expenditure description

Sub-Recipient (also referred to as FFATA Data Elements)

1. Sub-recipient DUNS

2. Sub-recipient CCR information

3. Sub-recipient type

4. Amount received by sub-recipient

5. Amount awarded to sub-recipient

6. Sub-award date

7. Sub-award period

8. Sub-recipient place of performance

9. Sub-recipient area of benefit

10. Sub-recipient officer names and compensation (Top 5)

Sub-Recipient Vendor

1. DUNS or Name and zip code of HQ

Affected Public: All recipients of Recovery funds, as defined in section 1512(b)(1) of the Recovery Act.

Total Estimated Number of Respondents: 248,275.

Frequency of Responses: Quarterly.

Total Estimated Annual Burden Hours: 1,489,650.

Ivan Flores,
Paralegal Specialist, Recovery Accountability and Transparency Board.

[FR Doc. E9-18933 Filed 8-6-09; 8:45 am]

BILLING CODE 6820-GA-P